ENVIRONMENTAL PROTECTION AGENCY

[EPA-HQ-ORD-2005-0027; FRL-8018-5]

Board of Scientific Counselors, Land Research Program Subcommittee—January 2005

AGENCY: Environmental Protection Agency (EPA).

ACTION: Notice of meeting.

SUMMARY: Pursuant to the Federal Advisory Committee Act, Public Law 92-463, the Environmental Protection Agency, Office of Research and Development (ORD), gives notice of one meeting of the Board of Scientific Counselors (BOSC) Land Subcommittee.

DATES: One conference call will be held on January 23, 2006, from 12 p.m.-2 p.m. eastern standard time. The meeting may adjourn early if all business is finished. Requests for the draft agenda or for making an oral presentation at the conference call will be accepted up to one business day before the conference call. Comments must be received up to one business day before the conference call.

ADDRESSES: Submit your comments, identified by Docket ID No. EPA-HQ-ORD-2005-0027, by one of the following methods:

• http://www.regulations.gov: Follow the on-line instructions for submitting comments.

• E-mail: Send comments by electronic mail (e-mail) to ORD.Docket@epa.gov, Attention Docket ID No. EPA-HQ-ORD-2005-0027.

• Fax: Fax comments to: 202-566-0224, Attention Docket ID No. EPA-HQ-ORD-2005-0027

• Mail: Send comments by mail to: Board of Scientific Counselors, Land Research Program Subcommittee Docket, Mailcode: 28221T, 1200 Pennsylvania Ave., NW., Washington, DC 20460, Attention Docket ID No. EPA-HQ-ORD-2005-0027.

• By Hand Delivery or Courier. Deliver comments to: EPA Docket Center (EPA/DC), Room B102, EPA West Building, 1301 Constitution Avenue, NW., Washington, DC, Attention Docket ID No. EPA-HQ-ORD-2005-0027. Note: This is not a mailing address. Such deliveries are only accepted during the docket's normal hours of operation and special arrangements should be made for deliveries of boxed information.

Instructions: Direct your comments to Docket ID No. EPA-HQ-ORD-2005-0027. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center Home page at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Board of Scientific Counselors, Land Research Program Subcommittee Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Land Research Program Subcommittee Docket is (202) 566-1752.

FOR FURTHER INFORMATION CONTACT: Heather Drumm, Designated Federal Officer, via telephone/voice mail at (202) 564-8239, via e-mail at drumm.heather@epa.gov, or by mail at Environmental Protection Agency, Office of Research and Development, Mail Code 8104-R, 1200 Pennsylvania Avenue, NW., Washington, DC 20460.

SUPPLEMENTARY INFORMATION:

General Information

Participation in the conference calls will be by teleconference only—meeting rooms will not be used. Members of the public who wish to obtain the call-in number and access code to participate in a teleconference meeting may contact Heather Drumm, Designated Federal Officer, via telephone/voice mail at (202) 564-8239, via e-mail at drumm.heather@epa.gov, or by mail at Environmental Protection Agency, Office of Research and Development, Mail Code 8104-R, 1200 Pennsylvania Avenue, NW., Washington, DC 20460, by four work days prior to each conference call.

Proposed agenda items for the conference call include, but are not limited to: follow-up discussions from face-to-face meeting and discussion of progress on final report. The conference call is open to the public.

Information on Services for the Handicapped: Individuals requiring special accommodations at this meeting should contact Heather Drumm, Designated Federal Officer, at (202) 564-8239 at least five business days prior to the meeting so that appropriate arrangements can be made to facilitate their participation.

Dated: December 28, 2005.
Kevin Y. Teichman,
Director, Office of Science Policy.

[FR Doc. E5-8270 Filed 1-3-06; 8:45 am]

BILLING CODE 6560-50-P